DEPARTMENT OF AGRICULTURE

Draft Supplement to the Final Environmental Impact Statement for the Deep Vegetation Management Project, Ochoco National Forest, Crook and Wheeler Counties, OR

AGENCY: Forest Service, USDA.

ACTION: Notice of intent to supplement a final environmental impact statement.

SUMMARY: The USDA, Forest Service, will prepare a draft supplement to the final environmental impact statement (Draft SEIS) for the Deep Vegetation Management Project. A Notice of Intent to Prepare a draft Environmental Impact Statement (DEIS) was originally published in the Federal Register on December 23, 1999. The Notice of Availability of the DEIS appeared in the Federal Register on April 27, 2001, the Notice of Availability of the final Environmental Impact Statement (FEIS) was published on October 12, 2001.

On September 26, 2001, Ochoco and Deschutes National Forest Deputy Supervisor Becky Heath signed the Record of Decision (ROD) to implement Alternative C (mod) of the Deep Vegetation Management Project Final Environmental Impact Statement (FEIS). On November 9, 2001, six environmental groups appealed this decision. On April 26, 2002, Acting Ochoco Forest Supervisor, Judy Levin, withdrew the September 26, 2001 ROD. Additional information will be incorporated into the Draft SEIS to address raised in the appeal with emphasis on the effects of prescribed fire on snags and down wood, and the effects of on-going grazing by domestic livestock.

DATES: Comments concerning this analysis should be received, in writing by June 10, 2002, to be most useful.

ADDRESSES: Send written comments to Judith E. Levin, Acting Forest Supervisor, Ochoco National Forest, P.O. Box 490, Prineville, Oregon 97754, or William Fish, Acting District Ranger, Paulina Ranger District, 7803 Beaver Creek Road, Paulina, Oregon 97751.

FOR FURTHER INFORMATION CONTACT: Tom Mafera, Deep Project Leader, Paulina Ranger District, 7803 Beaver Creek Road, Paulina, OR 97751, phone (541) 477-6910.

SUPPLEMENTARY INFORMATION: The SEIS will display the original alternatives, including C (mod) selected in the 2001 ROD. Specific actions include: Silvicultural treatments that include timber harvest on approximately 6,393 acres (approximately 14mmbf), Precommercial thinning of approximately 10,042 acres, Post harvest fuels treatment on approximately 5,511 acres, Natural fuels underburning of approximately 4,192 acres, Forage enhancement/Juniper reduction underburning on approximately 4,549 acres, Riparian planting along 28 miles of stream, Large woody material placement on 7.4 miles of stream, Riparian protection at six dispersed recreation sites, Aspen enhancement on approximately 81 acres, Willow enhancement at two sites, Meadow enhancement on approximately 825 acres, Culvert replacement at eight locations, Road closure of approximately 16.2 miles, Road decommissioning on 15.2 miles. These activities would occur on approximately 19,800 acres within the Deep Creek watershed, located on the Paulina Ranger District of the Ochoco National Forest. The total planning area of the Deep Vegetation Management Project is 55,368 acres.

The purpose and need for action is to provide landscape-level health and diversity with the project by moving and existing vegetation toward conditions that are sustainable, provide habitat diversity, and contribute to riparian management objectives. Also to provide multiple use benefits: such as wildlife and fish habitat restoration; riparian and watershed restoration; visual quality; and timber products.

The original issues will guide the analysis. The original issues are: landscape level pattern and vegetative diversity; water quality and fish habitat; and fuels and fire hazard.

The decision-to-be-made will include whether, where, and/or how much of each proposed vegetation activity should occur, and/or how much road and where decommissioning, repair, obliteration, or construction should occur.

The public is invited to offer suggestions and comments in writing. Comments received in response to this notice, including the names and addresses of those who comment, will be considered part of the public record on this proposal and will be available to public inspection. Comments submitted anonymously will be accepted and considered; however, those who submit anonymous comments will not have standing to appeal the subsequent decision under 36 CFR part 215. Additionally, pursuant to 7 CFR 1.27(d); any person may request the agency to withhold a submission form the public record by showing how the Freedom of Information Act (FOIA) permits such confidentiality may be granted in only limited circumstances, such as to protect trade secrets. The Forest Service will inform the requester of the agency's decision regarding the request for confidentiality, and where the request is denied, the agency will return the submission and notify the requester that the comments may be resubmitted with or without name and address within a specified number of days.

The Draft SEIS is expected to be completed in June 2002. The comment period on the Draft SEIS will be 45 days from the date the Environmental Protection Agency publishes the notice of availability in the Federal Register.

The Forest Service believes it is important to give reviewers notice at this early stage of several court rulings related to public participation in the environmental review process. First, reviewers of a Draft SEIS must structure their participation in the environmental review of the proposal so that it is meaningful and alerts an agency to the reviewer's position and contentions. Vermont Yankee Nuclear Power Corp. v. NRDC, 435 U.S. 519, 553 (1978). Also, environmental objections that could be raised at the Draft SEIS stage but that are not raised until after completion of the Final SEIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objects are made available to the Forest Service at a time when it can meaningfully consider them and respond to them in the Final SEIS.

To assist the Forest Service in identifying and considering issues and concerns on the proposed action, comments on the Draft SEIS should be as specific as possible. It is also helpful if comments refer to specific pages or chapters of the draft statement. Comments may also address the adequacy of the Draft SEIS or the merits of the alternatives formulated and discussed in the statement. (Reviewers may wish to refer to the Council on Environmental Quality Regulations for implementing the procedural provisions of the National Environmental Policy Act at 40 CFR 1503.3 in addressing these points.)

The Final SEIS will be completed in September 2002. In the Final SEIS, the Forest Service is required to respond to comments and responses received during the comment period that pertain to the environmental consequences discussed in the Draft SEIS and applicable laws, regulations, and policies considered in making the decisions regarding the Deep Vegetation Management Project.

The Forest Service is the lead agency. The Forest Supervisor of the Ochoco National Forest is the Responsible Official. The Responsible Official will determine which alternative best meets the purpose and need of this project and addresses the key issues raised about this project. The decision and rationale will be documented in the Record of Decision. That decision will be subject to Forest Service Appeal Regulations (36 FR part 215).

Dated: May 15, 2002.
Judith E. Levin,
Acting Forest Supervisor.

[FR Doc. 02-13198 Filed 5-24-02; 8:45 am]

BILLING CODE 3410-11-M